DEPARTMENT OF COMMERCE

International Trade Administration

[A-570-831]

Fresh Garlic From the People's Republic of China: Rescission of Antidumping Duty New Shipper Review

AGENCY: Import Administration, International Trade Administration, Department of Commerce.

ACTION: Rescission of Antidumping Duty New Shipper Review.

SUMMARY: On June 30, 2004, the Department of Commerce (the Department) initiated a new shipper review of the antidumping duty order on fresh garlic from the People's Republic of China covering the period November 1, 2003, through April 30, 2004. See Fresh Garlic from the People's Republic of China: Notice of Initiation of New Shipper Antidumping Duty Review, 69 FR 40868 (July 7, 2003) (Initiation Notice). This new shipper review covered one exporter, Shandong Jining Jinshan Textile Co., Ltd. (Jining Jinshan). For the reasons discussed below, we are rescinding the review of Jining Jinshan.

DATES: Effective September 21, 2004.

FOR FURTHER INFORMATION CONTACT: Sochieta Moth or Charles Riggle at (202) 482-0168 and (202) 482-0650, respectively, NME Office, Import Administration, International Trade Administration, U.S. Department of Commerce, 14th Street and Constitution Avenue, NW., Washington, DC 20230.

SUPPLEMENTARY INFORMATION:

Background

On May 28, 2004, the Department received a timely request for a new shipper review of the antidumping duty order on fresh garlic from the People's Republic of China (PRC) from Jining Jinshan, a producer of subject merchandise sold to the United States. On June 30, 2004, the Department initiated this new shipper review covering the period November 1, 2003, through April 30, 2004. Based on evidence contained in Jining Jinshan's request for a new shipper review, the Department also launched a middleman-dumping inquiry on Jining Jinshan's exporter, H & T Trading Company. See Initiation Notice. On August 18, 2004, Jining Jinshan withdrew its request for review.

Scope of the Antidumping Duty Order

The products subject to this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include (a) garlic that has been mechanically harvested and that is primarily, but not exclusively, destined for non-fresh use or (b) garlic that has been specially prepared and cultivated prior to planting and then harvested and otherwise prepared for use as seed.

The subject merchandise is used principally as a food product and for seasoning. The subject garlic is currently classifiable under subheadings 0703.20.0000, 0710.80.7060, 0710.80.9750, 0711.90.6000, and 2005.90.9500 of the Harmonized Tariff Schedule of the United States (HTSUS). Although the HTSUS subheadings are provided for convenience and customs purposes, the written description of the scope of this proceeding is dispositive.

In order to be excluded from antidumping duties, garlic entered under the HTSUS subheadings listed above that is (1) mechanically harvested and primarily, but not exclusively, destined for non-fresh use, or (2) specially prepared and cultivated prior to planting and then harvested and otherwise prepared for use as seed, must be accompanied by declarations to the U.S. Customs and Border Protection (CBP) to that effect.

Rescission of New Shipper Review

Pursuant to 19 CFR 351.214(f)(1), the Department may rescind a new shipper review if a party that requested a review withdraws its request not later than 60 days after the date of publication of notice of initiation of the requested review. Jining Jinshan withdrew its request for a new shipper review on August 18, 2004, before the expiration of the 60-day deadline. We find no compelling reason not to permit withdrawal of the request for this new shipper review. Specifically, we had not started reviewing information for purposes of calculating an antidumping duty margin for Jining Jinshan. Furthermore, we did not receive any submissions opposing Jining Jinshan's withdrawal of its request for review. For these reasons, we have accepted Jining Jinshan's withdrawal and are rescinding the new shipper review of the antidumping duty order on fresh garlic from the PRC with respect to Jining Jinshan in accordance with 19 CFR 351.214(f)(1). We are also terminating our middleman-dumping inquiry on exporter H & T Trading Company.

Cash Deposits

The Department will notify CBP that bonding is no longer permitted to fulfill security requirements for shipments from Jining Jinshan of fresh garlic from the PRC entered, or withdrawn from warehouse, for consumption in the United States on or after the publication of this notice of rescission of antidumping duty new shipper review in the Federal Register. Further, effective upon publication of this notice, for all shipments of the subject merchandise exported by Jining Jinshan and entered, or withdrawn from warehouse, for consumption, the cash deposit rate will be the PRC-wide rate, which is 376.67 percent.

Notification to Parties Subject to Administrative Protective Orders

This notice serves as a reminder to parties subject to administrative protective orders (APO) of their responsibility concerning the disposition of proprietary information disclosed under APO in accordance with section 351.305(a)(3) of the Department's regulations. Timely written notification of the return/destruction of APO material or conversion to judicial protective order is hereby requested. Failure to comply with the regulations and terms of an APO is a violation which is subject to sanctions.

We are issuing and publishing this determination and notice in accordance with sections 751(a)(2)(B) and 777(i)(1) of the Tariff Act of 1930, as amended.

Date: September 15, 2004.
Jeffrey A. May,
Deputy Assistant Secretary for Import Administration.

[FR Doc. E4-2286 Filed 9-20-04; 8:45 am]

BILLING CODE 3510-P